DEPARTMENT OF DEFENSE

Department of the Army; Corps of Engineers

Intent To Prepare a Draft Supplemental Environmental Impact Statement for the Federal Flood Control Project for Hunting Bayou, Harris County, TX

AGENCY: Department of the Army, U.S. Army Corps of Engineers, DoD.

ACTION: Notice of intent.

SUMMARY: The proposed action to be addressed in the Draft Supplemental Environmental Impact Statement (SEIS) is the reformulation and implementation of a new flood damage reduction plan for the Hunting Bayou Watershed. The project plan reformulation includes a re-analysis of all engineering, economic, and environmental aspects using Department of the Army criteria and guidelines, as well as local engineering and analytical criteria. These studies are being conducted by the Harris County Flood Control District (HCFCD), the local sponsor, in partnership with the U.S. Army Corps of Engineers (USACE) as authorized by Section 211 of the Water Resources Development Act (WRDA) of 1996 (Pub. L. 104-303).

FOR FURTHER INFORMATION CONTACT: Questions about the proposed action and draft SEIS can be answered by Mr. Enrique Villagomez at (409) 766-3173 or by mail at U.S. Army Corps of Engineers, P.O. Box 1229, Galveston, TX 77553-1229.

SUPPLEMENTARY INFORMATION: 1. Purpose and Need for Action—An authorized plan (authorized as part of WRDA 1990) exists to resolve many of the flooding problems along the bayou; however, the local sponsor (HCFCD) no longer supports the previously authorized plan because of the magnitude of the impacts identified adjacent to the channel through Herman Brown Park and downstream. HCFCD believes less intrusive options are available that can selectively address the critical areas of flooding. The purpose of the proposed action is to develop an alternative flood damage reduction plan to the plan authorized in WRDA 1990. The need for the proposed action is to reduce flooding along Hunting Bayou in a manner that is less disruptive to the existing environment versus the authorized plan adjacent to the channel through Herman Brown Park and downstream; that is effective, affordable, and sensitive to the aesthetics of the area; and that is compatible with parks located along the bayou.

2. Alternatives—The draft SEIS will address a combination of alternative flood reduction plans, including structural and non-structural measures, and the no action alternative. Mitigation measures for any significant adverse effects on the environment will be identified and incorporated into the alternatives in compliance with various federal and state statutes.

3. Scoping—A public scoping meeting was held on June 11, 1998, at the Houston Public Library, Kashmere Gardens Branch. The announcement for the scoping meeting was published in the Houston Chronicle on May 12 and 27, 1998. Meeting notices were also mailed to 74 elected officials, government agencies, local organizations, civic groups, the media, businesses, and interested citizens. The purpose of the meeting was to invite and encourage members of the public and jurisdictional government agencies to aid in determining the scope of significant issues to be examined in the proposed SEIS for reformulation of the flood damage reduction plans for the Hunting Bayou Watershed.

4. Public Involvement During the Project Planning Process—In addition to the scoping process, several public information meetings have been held to keep the public updated on the studies progress. These meetings consisted of a presentation by HCFCD updating the various activities or plans being considered followed by a question and answer period.

5. Issues that will be addressed in the draft SEIS include potential effects on vegetation and wildlife, water quality, air quality, socioeconomic resources, physical resources, and cultural resources. Other issues may include soils, topography, noise, aesthetics, and recreation.

6. The U.S. Fish and Wildlife Service will provide the Fish and Wildlife Coordination Act Report.

7. A 45-day review period will be allowed for all interested agencies and individuals to review and comment on the draft SEIS. All interested persons are encouraged to respond to this notice and provide a current address if they wish to be contacted about the draft SEIS.

8. Availability—The draft SEIS is scheduled to be available for public review in December 2002.

Carolyn E. Murphy,
Chief, Environmental Section.

[FR Doc. 02-22190 Filed 8-29-02; 8:45 am]

BILLING CODE 3710-52-P